DEPARTMENT OF ENERGY

Federal Energy Regulatory Commission

[Docket No. EL02-109-000]

Sacramento Municipal Utility District, Complainant v. Duke Energy Trading and Marketing, LLC, Respondent; Notice of Complaint

July 25, 2002.

Take notice that on July 24, 2002, Sacramento Municipal Utility District (SMUD) tendered for filing a Complaint Seeking Rate Relief Pursuant to Section 206 of the Federal Power Act (Complaint) against Duke Energy Trading and Marketing, LLC (DETM). The Complaint alleges that the prices charged by DETM under certain intermediate and long-term power contracts with SMUD are unjust and unreasonable and contrary to the public interest.

SMUD requests that the Commission set a refund effective date of 60 days from the date of filing of their complaint.

Copies of the filing were served upon DETM and the California Public Utilities Commission.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before August 13, 2002. Protests will be considered by the Commission in determining the appropriate action to be taken, but will not serve to make protestants parties to the proceeding. Any person wishing to become a party must file a motion to intervene. Answers to the complaint shall also be due on or before August 13, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Linwood A. Watson, Jr.,
Deputy Secretary.

[FR Doc. 02-19305 Filed 7-30-02; 8:45 am]

BILLING CODE 6717-01-P